COUNCIL ON ENVIRONMENTAL QUALITY

Guidance Document Online Portal

AGENCY: Council on Environmental Quality.

ACTION: Notice of online portal for agency guidance documents.

SUMMARY: In accordance with Executive Order (E.O.) 13891, “Promoting the Rule of Law Through Improved Agency Guidance Documents,” dated October 9, 2019, and Office of Management and Budget (OMB) Memorandum M-20-02, dated October 31, 2019, the Council on Environmental Quality (CEQ) is providing notice of where the public may access CEQ guidance documents.

ADDRESSES: The portal may be found at https://www.whitehouse.gov/ceq/resources/.

FOR FURTHER INFORMATION CONTACT: Amy B. Coyle, Deputy General Counsel, Council on Environmental Quality, 730 Jackson Place NW, Washington, DC 20503, 202-395-5750, amy.b.coyle@ceq.eop.gov.

SUPPLEMENTARY INFORMATION: E.O. 13891, “Promoting the Rule of Law Through Improved Agency Guidance Documents,” ¹ requires that each agency establish or maintain on its website a single, searchable, indexed database that contains or links to all agency guidance documents ² in effect. In accordance with E.O. 13891 and OMB's implementing guidance, set forth in OMB Memorandum M-20-02,³ CEQ has complied with this requirement through its website portal, which is available to the public at whitehouse.gov/ceq/resources.⁴ As required by E.O. 13891, the website also reiterates that: (1) The contents of the guidance documents accessed through the portal lack the force and effect of law, unless expressly authorized by statute or incorporated into a contract; and (2) these documents are intended only to provide clarity to the public regarding existing requirements under statutes and regulations administered by CEQ. Under the E.O., CEQ may not cite, use, or rely on any guidance document that is not posted on or linked to the website portal, except to establish historical facts.

¹ 84 FR 55235 (Oct. 15, 2019).

² E.O. 13891 defines “guidance document” as “an agency statement of general applicability, intended to have future effect on the behavior of regulated parties, that sets forth a policy on a statutory, regulatory, or technical issue, or an interpretation of a statute or regulation. . . .” Id.

³ OMB issued its guidance memorandum on October 31, 2019. See M-20-02, Guidance Implementing Executive Order 13891, Titled “Promoting the Rule of Law Through Improved Agency Guidance Documents” (Oct. 31, 2019), https://www.whitehouse.gov/wp-content/uploads/2019/10/M-20-02-Guidance-Memo.pdf.

⁴ CEQ's website portal at https://www.whitehouse.gov/ceq/resources/ includes links to CEQ guidance documents and resources, some of which are provided on nepa.gov (https://www.energy.gov/nepa/ceq-guidance-documents) and sustainability.gov (https://www.sustainability.gov/resources.html).

CEQ will also include on its website portal a link to its final rule establishing CEQ's internal agency procedures for issuing guidance documents, required by section 4 of E.O. 13891. The final rule relating to CEQ's guidance document procedures is published elsewhere in this issue of the Federal Register.

Authority: 42 U.S.C. 4321-4347; 42 U.S.C. 4371-4375; and E.O. 13891, 84 FR 55235.

Mary B. Neumayr,
Chairman.

[FR Doc. 2020-28879 Filed 1-7-21; 8:45 am]

BILLING CODE 3125-F1-P